FEDERAL RESERVE SYSTEM

Change in Bank Control Notices; Formations of, Acquisitions by, and Mergers of Bank Holding Companies; Correction

This notice corrects a notice (FR Doc. 2014-25590) published on page 64194 of the issue for October 28, 2014.

Under the Federal Reserve Bank of Dallas heading, the entry for Laura Lee Lehmberg Austin, Mason Texas, is revised to read as follows:

1. Laura Lee Lehmberg Austin, Mason, Texas; to acquire voting shares of Commercial Company, Inc., and thereby indirectly acquire voting shares of The Commercial Bank, both in Mason, Texas.

Comments on this application must be received by November 12, 2014.

Board of Governors of the Federal Reserve System, October 29, 2014.
Michael J. Lewandowski,
Associate Secretary of the Board.

[FR Doc. 2014-26027 Filed 10-31-14; 8:45 am]

BILLING CODE 6210-01-P